NUCLEAR REGULATORY COMMISSION

[Docket No. 70-1151; NRC-2015-0039]

Westinghouse Electric Company, LLC; Columbia Fuel Fabrication Facility

AGENCY: Nuclear Regulatory Commission.

ACTION: License renewal; issuance.

SUMMARY: The U.S. Nuclear Regulatory Commission (NRC) has renewed Special Nuclear Materials (SNM) License No. SNM-1107 for the continued operation of the Westinghouse Electric Company, LLC (WEC) Columbia Fuel Fabrication Facility (CFFF) located in Hopkins, South Carolina. License No. SNM-1107 authorizes WEC to continue to operate the CFFF for a period of 40 years, and will expire on September 12, 2062. The CFFF manufactures nuclear fuel assemblies for commercial nuclear power reactors.

DATES: License No. SNM-1107 was issued on September 12, 2022, and is effective as of the date of issuance.

ADDRESSES: Please refer to Docket ID NRC-2015-0039 when contacting the NRC about the availability of information regarding this action. You may obtain publicly available information related to this action using any of the following methods:

• Federal Rulemaking Website: Go to https://www.regulations.gov and search for Docket ID NRC-2015-0039. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Jenny Tobin, Office of Nuclear Material Safety and Safeguards, U.S. Nuclear Regulatory Commission, Washington, DC 20555-0001, telephone: 301-415-2328, email: Jennifer.Tobin@nrc.gov.

SUPPLEMENTARY INFORMATION:

I. Introduction

Westinghouse Electric Company, LLC (WEC) is authorized to possess and use SNM under part 70 of title 10 of the Code of Federal Regulations (10 CFR), “Domestic Licensing of Special Nuclear Material” at its Columbia Fuel Fabrication Facility (CFFF) located in Hopkins, South Carolina. The CFFF is licensed to possess and process enriched uranium up to a maximum of 5 weight-percent uranium-235 for the manufacture of nuclear fuel assemblies for use in commercial nuclear power reactors.

II. Discussion

Pursuant to 10 CFR 2.106, the NRC is providing notice of the renewal of License No. SNM-1107, which authorizes WEC to continue the manufacture of nuclear fuel assemblies for use in commercial nuclear power reactors at its location in Hopkins, South Carolina.

WEC's request for the license renewal was previously noticed in the Federal Register (FR) on February 27, 2015 (80 FR 10727), with a notice of opportunity to request a hearing and to petition for leave to intervene. No requests were received.

The NRC prepared a final Environmental Impact Statement (EIS), NUREG- 2248, “Environmental Impact Statement for the License Renewal of the Columbia Fuel Fabrication Facility in Richland County, South Carolina” in support of WEC's license renewal application in accordance with the requirements of 10 CFR part 51. The final EIS was noticed in the Federal Register on August 5, 2022 (87 FR 48044).

The NRC determined that License No. SNM-1107 complies with the standards and requirements of the Atomic Energy Act of 1954, as amended, and with the NRC's rules and regulations as set forth in 10 CFR chapter 1. Accordingly, this license was issued on September 12, 2022, and was effective immediately.

The NRC staff prepared a safety evaluation report for the renewal of License No. SNM-1107 and concluded that WEC can continue to operate the facility without posing an undue risk to the worker or to public health and safety.

III. Availability of Documents

In accordance with 10 CFR 2.390 of the NRC's “Rules of Practice,” the details with respect to this action, including the safety evaluation report and accompanying documentation and license, are available electronically in the NRC's Electronic Reading Room at https://www.nrc.gov/reading-rm/adams.html. From this site, you can access ADAMS, which provides text and image files of the NRC's public documents. For further details related to this action, visit https://www.regulations.gov under Docket ID NRC-2015-0039.

The documents identified in the following table are available to interested persons through ADAMS accession numbers as indicated.

Document description | ADAMS accession No.
Letter from Malek, Elise, “Westinghouse Revised SNM-1107 License Renewal Application,” dated September 20, 2021 | ML21263A217
NUREG-2248 “Environmental Impact Statement for the License Renewal of the Columbia Fuel Fabrication Facility in Richland County, South Carolina,” dated July 29, 2022 (published in the Federal Register on August 5, 2022, at 87 FR 84044) | ML22201A131
Special Nuclear Materials Renewed License SNM-1107, dated September 12, 2022 | ML22157A350
NRC Safety Evaluation Report for the Renewal of License SNM-1107 for Westinghouse Electric Company LLC, Hopkins, South Carolina Docket Number 70-1151, dated September 12, 2022 | ML22207B617

Dated: September 12, 2022.
For the Nuclear Regulatory Commission.
Shana R. Helton,
Director, Division of Fuel Management, Office of Nuclear Material Safety and Safeguards.

[FR Doc. 2022-20026 Filed 9-15-22; 8:45 am]

BILLING CODE 7590-01-P